SOCIAL SECURITY ADMINISTRATION

Agency Information Collection Activities: Emergency Request and Comment Request

The Social Security Administration (SSA) publishes a list of information collection packages that will require clearance by the Office of Management and Budget (OMB) in compliance with Pub. L. 104-13 effective October 1, 1995, the Paperwork Reduction Act of 1995. The information collection packages that may be included in this notice are for new information collections, revisions to OMB-approved information collections and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB)

Office of Management and Budget, Attn: Desk Officer for SSA, New Executive Office Building, Room 10235, 725 17th St., NW., Washington, DC 20503. Fax: 202-395-6974.

(SSA)

Social Security Administration, DCFAM, Attn: Reports Clearance Officer, 1338 Annex Building, 6401 Security Blvd., Baltimore, MD 21235. Fax: 410-965-6400.

I. SSA has submitted the information collection listed below for emergency consideration by OMB. SSA has requested OMB approval within 30 days from the date of this notice. Therefore, your comments will be most useful if received before the 30 days concludes. You can obtain copies of the OMB clearance package by calling the SSA Reports Clearance Officer at 410-965-0454, or by writing to the address listed above.

Request for Internet Services—Password—0960-0632. SSA uses a personal identification number (PIN)/password process for verifying the identity of individuals who choose to use the Internet and Automated Telephone Response in order to conduct business with the agency. An individual will be requested to provide certain information about himself or herself that SSA can verify in its records in order to obtain a password for use with its electronic services. The information that SSA collects varies depending on individual circumstances. Some examples of the information collected are: name, social security number, password request code, benefit payment amount, and other shared secret types of information from SSA records. Once the requestor's identity is verified, SSA issues a PIN to the requestor which will allow them to establish a password for use with SSA Internet/telephone transactions.

Until now, the services offered have been primarily to beneficiaries receiving benefits under title II of the Social Security Act, including Retirement, Survivors and Disability benefits. Beginning in April 2003, SSA will offer the opportunity for certain beneficiaries receiving benefits under title XVI of the Social Security Act, known as Supplemental Security Income (SSI), to report their wages electronically. SSA will initiate a 6-month Proof of Concept project to test the beneficiary acceptance of this technology for reporting wages. Participation in this Proof of Concept is voluntary. Individuals who must report wages include SSI beneficiaries, and, in some cases, the parent or spouse of the SSI beneficiary. In order to use SSA's electronic services, SSA must authenticate the person using its PIN/password process to protect the information in its records from those not authorized to receive it. This technology is expected to be more secure, less burdensome, faster and provide better customer service than other available options. The respondents are individuals who elect to conduct business with the agency in an electronic medium.

Type of Request: Revised information collection.

Number of Respondents: 391,267.

Frequency of Response: 1.

Average Burden Per Response: 10 minutes.

Estimated Annual Burden: 65,211 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Quickstart Enrollment—31 CFR 209 and 210—0960-0564

The information collected is needed by SSA to facilitate electronic transmission of data for direct deposit of funds to a payee's account. The respondents are Social Security beneficiaries and SSI recipients requesting direct deposit to their financial institutions.

Type of Request: Extension of an OMB-approved information collection.

Number of Respondents: 3,950,000.

Frequency of Response: 1.

Average Burden Per Response: 3 minutes.

Estimated Annual Burden: 197,500 hours.

2. Request for Internet Services Representative Payee, 20 CFR 401.45 Report—0960-NEW

Background

SSA is developing an Internet Representative Payee Report form (I623) to electronically report on the use of benefit payments made on behalf of Social Security beneficiaries and SSI recipients. As part of this process, SSA will conduct a proof of concept (POC) test that will be limited to 40 organizational representative payees. During the projected 6-month POC test, participating organizations will use the I623 to complete and file the representative payee report instead of using the paper SSA-623.

The Collection

Organizations participating in the POC will designate up to three employees that will be authenticated using SSA's existing Integrated Registration for Employers and Submitters (IRES) OMB control number 0960-0626. Once authenticated, the employee will be required to enter a Personal Identification Number (PIN) and Password to gain access to the online I623 application. The PIN and Password will serve as the electronic signature. SSA will use the information collected through the I623 to determine whether the payments provided to the representative payee have been used for the beneficiary's current maintenance and personal needs and whether the representative payee continues to be concerned with the beneficiary's welfare. The respondents are organizational representative payees designated to receive funds on behalf of Social Security beneficiaries and/or SSI recipients.

Type of request: New information collection.

Number of Respondents: 40 organizations.

Frequency of Response: 117.5 per respondent.

Average Burden Per Response: 15 minutes.

Estimated Annual Burden: 1,175 hours.

Dated: December 19, 2002.
Elizabeth A. Davidson,
Reports Clearance Officer, Social Security Administration.

[FR Doc. 02-32515 Filed 12-24-02; 8:45 am]

BILLING CODE 4191-02-P